CONSUMER PRODUCT SAFETY COMMISSION

[Docket No. CPSC-2012-0024]

Agency Information Collection Activities; Submission for OMB Review; Comment Request; Notification Requirements for Coal and Wood Burning Appliances

AGENCY: Consumer Product Safety Commission.

ACTION: Notice.

SUMMARY: As required by the Paperwork Reduction Act of 1995, the Consumer Product Safety Commission (CPSC) announces a submission to the Office of Management and Budget (OMB) requesting an extension of approval for a collection of information related to the CPSC's Standard for Coal and Wood Burning Appliances—Notification of Performance and Technical Data (OMB No. 3041-0040). CPSC previously published a notice announcing the agency's intent to seek this extension. CPSC received no comments in response to that notice.

DATES: Written comments on this request for extension of approval for information collection requirements should be submitted by December 7, 2018.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB also should be submitted electronically at http://www.regulations.gov, under Docket No. CPSC-2012-0024.

FOR FURTHER INFORMATION CONTACT: Bretford Griffin, Consumer Product Safety Commission, 4330 East West Highway, Bethesda, MD 20814; (301) 504-7037, or by email to: bgriffin@cpsc.gov.

SUPPLEMENTARY INFORMATION: CPSC seeks to renew the following currently approved collection of information:

Title: Notification Requirements for Coal and Wood Burning Appliances.

OMB Number: 3041-0040.

Type of Review: Renewal of collection.

Frequency of Response: On occasion.

Affected Public: Manufacturers and importers of coal and wood burning appliances.

Estimated Number of Respondents: An estimated five submissions annually.

Estimated Time per Response: Three hours per submission and 30 minutes for collecting and mailing the information to the CPSC.

Total Estimated Annual Burden: 17.5 hours (5 submissions × 3.5 hours).

Total Estimated Annual Cost to Respondents: $1,212, based on an average total hourly employee compensation rate of $69.23 for management, professional, and related occupations (Bureau of Labor Statistics: Total compensation rates for management, professional, and related occupations in private goods-producing industries, March 2018) (17.5 hours × $69.23).

General Description of Collection: 16 CFR part 1406, Coal and Wood Burning Appliances—Notification of Performance and Technical Data requires that manufacturers and importers provide consumers with written notification regarding certain technical and performance information related to safety on each coal and wood burning appliance. Manufacturers are also required to provide to the CPSC a copy of the notification to consumers and an explanation of all clearance distances contained in the notification. For existing models, all known manufacturers have complied with the requirements. Accordingly, there is no new burden associated with the requirements of 16 CFR part 1406, except in cases where existing models are changed, or new models are introduced. Less than five submissions are estimated annually from new stove models coming into the market, or new firms entering the market.

Alberta E. Mills,
Secretary, Consumer Product Safety Commission.

[FR Doc. 2018-24319 Filed 11-6-18; 8:45 am]

BILLING CODE 6355-01-P